DEPARTMENT OF DEFENSE

Office of the Secretary

Defense Acquisition University Board of Visitors; Notice of Meeting

AGENCY: Defense Acquisition University, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Defense Acquisition University Board of Visitors will take place.

DATES: Wednesday, May 9, 2012, from 8:30 a.m.-12 p.m.

ADDRESSES: DAU Mid-Atlantic Region, 23330 Cottonwood Pkwy, California, MD 20619.

FOR FURTHER INFORMATION CONTACT: Christen Goulding, Protocol Director, DAU, Phone: 703-805-5134, Fax: 703-805-5940, Email: christen.goulding@dau.mil.

SUPPLEMENTARY INFORMATION: Purpose of the Meeting: The purpose of this meeting is to report back to the Board of Visitors on continuing items of interest.

Agenda

8:30 a.m. Welcome and approval of minutes.

8:40 a.m. DAU Mid-Atlantic Region Highlights and update on Certification to Qualification.

9:30 a.m. College of Contract Management.

10:30 a.m. Services Acquisition.

11:15 a.m. Recognition of Service.

11:30 a.m. Open Forum Discussion.

12 p.m. Adjourn.

Public's Accessibility to the Meeting: Pursuant to 5 U.S.C. 552b and 41 CFR 102-3.140 through 102-3.165, and the availability of space, this meeting is open to the public. However, because of space limitations, allocation of seating will be made on a first-come, first served basis. Persons desiring to attend the meeting should call Ms. Christen Goulding at 703-805-5134. Committee's Designated Federal Officer or Point of Contact: Ms. Kelley Berta, 703-805-5412.

Dated: April 13, 2012.
Aaron Siegel,
Alternate OSD Federal Register Liaison Officer, Department of Defense.

[FR Doc. 2012-9344 Filed 4-18-12; 8:45 am]

BILLING CODE 5001-06-P